DEPARTMENT OF TRANSPORTATION

[Docket No. DOT-MARAD 2016-0110]

Agency Requests for Renewal of a Previously Approved Information Collection(s): Approval of Underwriters of Marine Hull Insurance

AGENCY: Maritime Administration, Department of Transportation.

ACTION: Notice and request for comments.

SUMMARY: The Maritime Administration (MARAD) invites public comments about our intention to request the Office of Management and Budget (OMB) approval to renew an information collection. The information is needed in order for Maritime Administration officials to evaluate the underwriters and determine their suitability for providing marine hull insurance on Maritime Administration vessels. We are required to publish this notice in the Federal Register by the Paperwork Reduction Act of 1995, Public Law 104-13.

DATES: Written comments should be submitted by January 3, 2017.

ADDRESSES: You may submit comments [identified by Docket No. DOT-MARAD-2016-0110] through one of the following methods:

• Federal eRulemaking Portal: http://www.regulations.gov. Follow the online instructions for submitting comments.

• Fax: 1-202-493-2251

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Mike Yarrington, 202-366-1915, Director, Office of Marine Insurance, Maritime Administration, U.S. Department of Transportation, 1200 New Jersey Avenue SE., Washington, DC 20590.

SUPPLEMENTARY INFORMATION:

OMB Control Number: 2133-0517.

Title: Approval of Underwriters of Marine Hull Insurance.

Form Numbers: None.

Type of Review: Renewal of an information collection.

Background: This collection of information involves the approval of marine hull underwriters to insure Maritime Administration program vessels. Foreign and domestic applicants will be required to submit financial data upon which Maritime Administration approval would be based.

Respondents: Marine insurance brokers and underwriters of marine insurance.

Number of Respondents: 62.

Frequency: Annually.

Number of Responses: 62.

Total Annual Burden: 46.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:93.

By Order of the Maritime Administrator.
Dated: October 24, 2016.
T. Mitchell Hudson, Jr.,
Secretary, Maritime Administration.

[FR Doc. 2016-26353 Filed 10-31-16; 8:45 am]

BILLING CODE 4910-81-P